DEPARTMENT OF STATE

[Public Notice: 10388]

U.S. Advisory Commission on Public Diplomacy; Notice of Meeting

The U.S. Advisory Commission on Public Diplomacy will hold a public meeting from 10:30 a.m. until 12:00 p.m., Tuesday, May 8, 2018 at the U.S. Capitol Visitor Center, room 203-02 (First St NE, Washington, DC 20515).

The public meeting will be on The Future of American Spaces and feature panelists discussing the role that nearly 700 American Spaces, including Binational Centers, play in supporting engagement with foreign publics around the world. These diverse venues are the U.S. government's primary public locations abroad and foster ongoing people-to-people connections between the United States and foreign audiences.

This meeting is open to the public, members and staff of Congress, the State Department, Defense Department, the media, and other governmental and non-governmental organizations. An RSVP is required. To attend and make any requests for reasonable accommodation, email Michelle Bowen at BowenMC1@state.gov by 5 p.m. on Friday, May 4, 2018. Please arrive for the meeting by 10:15 a.m. to allow for a prompt start.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. Sim Farar of California, Chairman; Mr. William Hybl of Colorado, Vice Chairman; Ms. Anne Terman Wedner of Illinois; and Ms. Georgette Mosbacher of New York. Three seats on the Commission are currently vacant.

To request further information about the meeting or the U.S. Advisory Commission on Public Diplomacy, you may contact its Executive Director, Dr. Shawn Powers, at PowersSM@state.gov.

Shawn M. Powers,
Executive Director, Advisory Commission on Public Diplomacy, Department of State.

[FR Doc. 2018-07847 Filed 4-13-18; 8:45 am]

BILLING CODE 4710-45-P